DEPARTMENT OF COMMERCE

International Trade Administration

[A-570-803]

Heavy Forged Hand Tools, Finished or Unfinished, With or Without Handles, From the People's Republic of China; Preliminary Results and Preliminary Partial Rescission of Antidumping Duty Administrative Reviews, Notice of Intent Not To Revoke in Part and Extension of Final Results of Reviews

AGENCY: Import Administration, International Trade Administration, Department of Commerce.

ACTION: Heavy Forged Hand Tools, Finished or Unfinished, With or Without Handles, From the People's Republic of China: Notice of Preliminary Results and Preliminary Partial Rescission of Antidumping Duty Administrative Reviews, Notice of Intent Not To Revoke in Part and Extension of Final Results of Reviews.

SUMMARY: In response to requests by a number of interested parties, the Department of Commerce (the Department) is conducting administrative reviews of the antidumping duty orders on heavy forged hand tools, finished or unfinished, with or without handles (HFHTs), from the People's Republic of China (PRC). The period of review (POR) is February 1, 2000, through January 31, 2001.

We preliminarily determine that certain manufacturers/exporters sold subject merchandise at less than normal value (NV) during the POR. If these preliminary results are adopted in our final results of review, we will instruct the U.S. Customs Service (Customs) to assess antidumping duties on all appropriate entries. We invite interested parties to comment on these preliminary review results. Parties who submit comments in these proceedings should also submit with the argument(s): (1) a statement of the issue(s) and (2) a brief summary of their argument (not to exceed five pages).

EFFECTIVE DATE: March 6, 2002.

FOR FURTHER INFORMATION CONTACT: Tom Futtner, Esther Chen or Tom Martin, AD/CVD Enforcement, Office 4, Group II, Import Administration, International Trade Administration, U.S. Department of Commerce, 14th Street and Constitution Avenue, N.W., Washington, D.C. 20230; telephone (202) 482-3814, (202) 482-2305, and 482-3936, respectively.

SUPPLEMENTARY INFORMATION:

The Applicable Statute and Regulations

Unless otherwise indicated, all citations to the Tariff Act of 1930, as amended, (the Act) are references to the provisions effective January 1, 1995, the effective date of the amendments made to the Act by the Uruguay Round Agreements Act. In addition, unless otherwise indicated, all citations to the Department's regulations are to the current regulations at 19 CFR Part 351 (2001).

Background

On February 19, 1991, the Department published in the Federal Register (56 FR 6622) four antidumping duty orders on HFHTs from the PRC. Imports covered by these orders comprise the following classes or kinds of merchandise: (1) hammers and sledges with heads over 1.5 kg (3.33 pounds) (hammers/sledges); (2) bars over 18 inches in length, track tools and wedges (bars/wedges); (3) picks/mattocks; and (4) axes/adzes. On February 27, 2001, the petitioner, Ames True Temper, requested administrative reviews of all four classes or kinds of subject merchandise for the following companies: Shandong Machinery Import & Export Corporation (SMC), Fujian Machinery & Equipment Import & Export Corporation (FMEC), Tianjin Machinery Import & Export Corporation (TMC), Liaoning Machinery Import & Export Corporation (LMC), and Shandong Huarong General Group Corporation (Huarong). The petitioner also requested a review of hammers/sledges from Shandong Jinma Industrial Group Co., Ltd. (Jinma). As part of its request for reviews, the petitioner also asked the Department to conduct duty absorption reviews under 19 U.S.C. § 1675(a)(4).

On February 27, 2001, four exporters of the subject merchandise requested that the Department conduct administrative reviews of their exports of subject merchandise. Specifically, TMC requested that the Department conduct administrative reviews of its exports of HFHTs within all four classes or kinds of merchandise. Huarong and LMC requested that the Department conduct an administrative review of their exports within the bars/wedges class of merchandise. SMC requested that the Department conduct an administrative review of its exports of hammers/sledges.

On March 22, 2001, the Department published a notice of initiation of administrative review covering the four orders on HFHTs and the five companies described above. See 66 FR 16037. At the time of initiation, the Department was conducting a new shipper review of Jinma, which ultimately was completed on October 29, 2001, covering hammers/sledges and the POR, February 1, 2000 through July 31, 2000. See, 66 FR 54503. As a consequence, we initiated this administrative review of hammers/sledges from Jinma covering only August 1, 2000 through January 31, 2001 in the POR. Additionally, on September 26, 2001, the Department extended the time limits for completion of these preliminary review results until no later than February 28, 2002. See, 66 FR 49163.

The Department is conducting these administrative reviews in accordance with section 751 of the Act.

Scope of Review

The products covered by these reviews are HFHTs from the PRC, comprising the following classes or kinds of merchandise: (1) hammers and sledges with heads over 1.5 kg (3.33 pounds) (hammers/sledges); (2) bars over 18 inches in length, track tools and wedges (bars/wedges); (3) picks and mattocks (picks/mattocks); and (4) axes, adzes and similar hewing tools (axes/adzes). HFHTs include heads for drilling hammers, sledges, axes, mauls, picks and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot blasting, grinding, polishing and painting, and the insertion of handles for handled products. HFHTs are currently provided for under the following Harmonized Tariff System (HTS) subheadings: 8205.20.60, 8205.59.30, 8201.30.00, and 8201.40.60. Specifically excluded from these investigations are hammers and sledges with heads 1.5 kg. (3.33 pounds) in weight and under, hoes and rakes, and bars 18 inches in length and under. The HTS subheadings are provided for convenience and U.S. Customs purposes. The written description remains dispositive.

Postponement of the Final Determination

Section 751(a)(3)(A) of the Act, requires the Department to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the of the preliminary determination.

We determine that it is not practicable to complete the final results of this review within the original time limit. Therefore, the Department is extending the time limit for completion of the final results until no later than August 27, 2002. See, Decision Memorandum from Holly A. Kuga to Bernard T. Carreau, dated concurrently with this notice.

Partial Rescission

On March 29, 2001, Jinma informed the Department that it did not ship hammers/sledges to the United States during the POR, and requested rescission of its administrative review. Information on the record indicates that there were no entries of this merchandise from Jinma during the POR. Accordingly, we are preliminarily rescinding the review with respect to Jinma.

On March 29, 2001, FMEC requested that the Department rescind its administrative reviews with respect to axes/adzes; bars/wedges; hammers/sledges; and picks/mattocks, because it had no sales, entries, or shipments of subject merchandise during the POR. See, FMEC Request for Rescission of Administrative Reviews Letter (March 29, 2001). Information on the record indicates that there were no entries of subject merchandise from FMEC during the POR. Accordingly, we are preliminarily rescinding the reviews of all four orders of HFHTs with respect to FMEC.

In their May 25, 2001, Section A questionnaire response, both Huarong and LMC stated that during the POR, they sold only subject merchandise within the bars/wedges class of merchandise. Information on the record indicates that there were no entries of axes/adzes, hammers/sledges and picks/mattocks from Huarong or LMC during the POR. Accordingly, we are preliminarily rescinding the reviews of Huarong and LMC under these three HFHTs orders.

In its May 25, 2001, Section A questionnaire response, SMC stated that during the POR, it sold only subject merchandise within the hammers/sledges class of merchandise. Information on the record indicates that there were no entries of axes/adzes, picks/mattocks and bars/wedges from SMC during the POR. Accordingly, we are preliminarily rescinding the reviews of SMC with respect to these three orders.

Intent Not To Revoke

In its February 27, 2001 review requests, TMC asked the Department to revoke it from the four HFHT orders. Section 351.222(b)(2) of the Department's regulations notes that the Secretary may revoke an antidumping order in part if the Secretary concludes, inter alia, that one or more exporters or producers covered by the order have sold the merchandise at not less than NV for a period of at least three consecutive years. Thus, in determining whether a requesting party is entitled to a revocation inquiry, the Department must determine that the party received zero or de minimis margins for the three years forming the basis for the revocation request. See, Notice of Final Results of Antidumping Duty Administrative Review and Determination Not to Revoke the Antidumping Duty Order: Brass Sheet and Strip From the Netherlands, 65 FR 742, 743 (January 6, 2000). TMC provided a certification pursuant to 19 CFR 351.222(e) indicating that it based its revocation request on the results of the instant review and the preceding two administrative reviews. However, TMC did not receive for any of the HFHT orders zero or de minimis margins in each of the reviews upon which it based its revocation request. See, e.g., Heavy Forged Hand Tools From the People's Republic of China; Amended Final Results of Antidumping Duty Administrative Reviews, 65 FR 50499 (August 18, 2000). Consequently, we preliminarily find that TMC does not qualify for revocation of the orders based upon section 351.222(b) of the Department's regulations.

Duty Absorption

On February 27, 2001, the petitioner requested that the Department conduct a duty absorption inquiry in order to determine whether antidumping duties had been absorbed by a foreign producer or exporter subject to the order. However, the Department's invitation for such requests only applies to certain administrative reviews of orders that were in effect before January 1995. For transition orders as defined in section 751(c)(6)(C) of the Tariff Act, i.e., orders in effect as of January 1, 1995, section 351.213(j)(2) of the Department's antidumping regulations provides that the Department will make a duty-absorption determination, if requested, for any administrative review initiated in 1996 or 1998. This approach ensures that interested parties will have the opportunity to request a duty-absorption determination prior to the time for a sunset review of the order under section 751(c) on entries for which the second and fourth years following an order have already passed. Because the antidumping duty orders on HFHTs from the PRC have been in effect since 1991, they are “transition orders” in accordance with section 751(c)(6)(C) of the Tariff Act. However, since the instant administrative reviews were not initiated in 1996 or 1998, the Department will not make duty absorption determinations.

Separate Rates Determination

To establish whether a company operating in a non-market economy (NME) is sufficiently independent to be entitled to a separate rate, the Department analyzes each exporting entity under the test established in the Final Determination of Sales at Less Than Fair Value: Sparklers from the People's Republic of China, 56 FR 20588 (May 6, 1991) (Sparklers), and the Final Determination of Sales at Less Than Fair Value: Silicon Carbide from the People's Republic of China, 59 FR 22585 (May 2, 1994) (Silicon Carbide). Under this test, NME firms are entitled to separate, company-specific margins when they can demonstrate an absence of government control, both in law and in fact, with respect to their export activities. Evidence supporting, though not requiring, a finding of de jure absence of government control over export activities includes: (1) an absence of restrictive stipulations associated with the individual exporter's business and export licenses; (2) any legislative enactments decentralizing control of companies; and (3) any other formal measures by the government decentralizing control of companies. De facto absence of government control over exports is based on four factors: (1) whether each exporter sets its own export prices independent of the government and without the approval of a government authority; (2) whether each exporter retains the proceeds from its sales and makes independent decisions regarding the disposition of profits or financing of losses; (3) whether each exporter has the authority to negotiate and sign contracts and other agreements; and (4) whether each exporter has autonomy from the government regarding the selection of management. See, Silicon Carbide, 59 FR at 22587 and Sparklers, 56 FR at 20589.

In the final results of the 1999-2000 reviews of HFHTs, the Department granted separate rates to TMC and SMC, but not to Huarong and LMC. See, Heavy Forged Hand Tools From the People's Republic of China; Final Results and Partial Rescission of Antidumping Duty Administrative Review and Determination Not To Revoke in Part, 66 FR 48026 (September 17, 2001). It is the Department's policy to evaluate separate rates questionnaire responses each time a respondent makes a separate rates claim, regardless of any separate rate the respondent received in the past. See, Manganese Metal From the People's Republic of China, Final Results and Partial Recision of Antidumping Duty Administrative Review, 63 FR 12441 (March 13, 1998). In the instant reviews, these companies submitted complete responses to the separate rates section of the Department's questionnaire. The evidence submitted in these reviews by TMC, SMC, Huarong and LMC included government laws and regulations on corporate ownership, business licences, and narrative information regarding the companies' operations and selection of management. This evidence supports a finding of a de jure absence of government control over export activities: (1) there are no controls on exports of subject merchandise, such as export quotas applied to the subject merchandise and no export license is required for exports of the subject merchandise to the United States; and (2) the subject merchandise does not appear on any government list regarding export provisions or exporting licensing. The companies have also shown de facto absence of government control over exports in their questionnaire responses: (1) each company sets its own export prices independent of the government and without the approval of a government authority; (2) each exporter retains the proceeds from its sales and makes independent decisions regarding the disposition of profits or financing of losses; (3) each exporter has a general manager, branch manager or division manager with the authority to negotiate and bind the company in an agreement; (4) the general manager is selected by the board of directors or company employees, and the general manager appoints the deputy managers and the manager of each department and (5) foreign currency does not need to be sold to the government. The Department preliminarily determines that all four respondents have established primae facie that they qualify for separate rates under Silicon Carbide and Sparklers.

Normal Value

For exports from NMEs, section 773(c)(1) of the Act provides that the Department shall determine NV using a factors of production (FOP) methodology if (1) the subject merchandise is exported from a NME country, and (2) available information does not permit the calculation of NV using home-market prices, third-country prices, or constructed value. Section 351.408 of the Department's regulations sets forth the Department's methodology for calculating the NV of merchandise from NME countries. In every case conducted by the Department involving the PRC, the PRC has been treated as a NME. Since none of the parties to these proceedings contested such treatment in these reviews, we calculated NV in accordance with section 773(c) of the Act and section 351.408 of the Department's regulations.

In accordance with section 773(c)(3) of the Act, the FOP utilized in producing HFHTs include, but are not limited to: (A) hours of labor required; (B) quantities of raw materials employed; (C) amounts of energy and other utilities consumed; and (D) representative capital costs, including depreciation. In accordance with section 773(c)(4) of the Act, the Department valued the FOP, to the extent possible, using the costs of the FOP in a market economy that is (A) at a level of economic development comparable to the PRC; and (B) a significant producer of comparable merchandise. India is comparable to the PRC in terms of per capita gross national product, the growth rate in per capita income, and the national distribution of labor. Consequently we determined that India is the country most comparable to the PRC among the significant exporting countries of comparable merchandise. See, Memorandum From Jeffrey May, Director, Office of Policy, to Holly Kuga, Office Director, AD/CVD Enforcement Group II, dated February 28, 2002, which is on file in the CRU-Public File.

In accordance with section 773(c)(1) of the Act, for purposes of calculating NV, we attempted to value FOP using the Indian surrogate values that were in effect during the POR. Where contemporaneous data was not available to the Department, the most recent data was used, and adjusted to account for inflation or deflation between the effective period and the POR. We calculated the inflation or deflation adjustments for all factor values, except labor, using the wholesale price indices (WPI) for India as published in the International Monetary Fund's (IMF) publication, International Financial Statistics. We valued the FOP as follows:

(1) We valued direct materials used to produce HFHTs, packing materials, steel scrap generated from the production of HFHTs, and coal used for energy using, where available, the rupee per kilogram value of imports that entered India during February 2000 through January 2001, as published in the respective volumes of the Monthly Statistics of the Foreign Trade of India, Volume II--Imports (Indian Import Statistics). See, Surrogate Value Memorandum. We valued steel for SMC's four pound hammers using the company's average reported purchase price for steel purchased from a market economy vendor using a market economy currency, as SMC claims to have used this steel for all of its four pound hammers. See, SMC's Additional Response to the Department's December 6, 2001 Supplemental Questionnaire (January 25, 2002) at 3.

(2) We valued labor using a regression-based wage rate, in accordance with 19 CFR 351.408(c)(3). This rate is identified on the Import Administration's web site. (See, http://ia.ita.doc.gov.wages/). See, Surrogate Value Memorandum.

(3) We derived ratios for factory overhead, selling, general and administrative (SG;&A) expenses, and profit using information reported for 1999-2000, for 1,914 Public Limited Companies, in the Reserve Bank of India Bulletin for June 2001. From this information, we were able to calculate factory overhead as a percentage of direct materials, labor, and energy expenses; SG&A expenses as a percentage of the total cost of manufacturing (TOTCOM); and profit as a percentage of the sum of the TOTCOM and SG&A expenses. See, Calculation for the Preliminary Results of the Tenth Administrative Reviews of Heavy Forged Hand Tools, Finished or Unfinished, with or Without Handles (“HFHTS”), from the People's Republic of China (“PRC”) Covering the Period of Review (“POR”) February 1, 2000 Through January 31, 2001; Liaoning Machinery Import & Export Corporation.

(4) We valued electricity using 2000-2001 data from the Annual Report on The Working of State Electricity Boards & Electricity Departments, published in June 2001 by the Power & Energy Division of the Planning Commission of the Government of India. The average tariff rate for Indian industry was applied (as opposed to the commercial tariff rate, or agricultural tariff rate). See, Surrogate Value Memorandum.

(5) We used the following sources to value truck and rail freight services incurred to transport direct materials, packing materials, and coal from the suppliers of the inputs to the factories producing HFHTs:

Truck Freight: We valued road freight services using the rates used by the Department in the Notice of Final Determination of Sales at Less Than Fair Value: Bulk Aspirin From the People's Republic of China, 65 FR 33805 (May 25, 2000). See, Surrogate Value Memorandum.

Rail Freight: We valued rail freight services using the 1999-2000 rate found in the Reserve Bank of India Bulletin, July 2001. See, Surrogate Value Memorandum.

Production “Caps": TMC, Huarong, SMC, and LMC have reported production “caps” for use in determining certain factor input amounts. A production “cap” is an estimate of the amount of factor input the company used to make the product in question. TMC reported “caps” for the following inputs: steel bar, billet and railroad scrap, paint, unskilled labor, skilled labor, and unskilled packing labor. LMC reported “caps” for estimating scrap railroad wheels, steel bars, paint, unskilled labor, skilled labor, and unskilled packing labor inputs. SMC reported “caps” for estimating paint, lubricating oil, varnish paint, resin glue, unskilled labor, skilled labor, unskilled packing labor, electricity and coal inputs. Huarong reported “caps” for the following inputs: steel billets, paint, unskilled labor, skilled labor, electricity, coal and unskilled packing labor. The Department notes that TMC, LMC, and Huarong initially reported using “caps” for coal and electricity, but finally chose to allocate these two factor inputs based upon steel weight.

The Department has accepted “caps” in the past only when the “caps” were found to reasonably reflect actual consumption, and has rejected them when found to be otherwise. See, Natural Bristle Paintbrushes and Brush Heads from the People's Republic of China; Final Review Results of Antidumping Review, 64 FR 27506 (May 20, 1999) (Natural Bristle Paintbrushes). In Natural Bristle Paintbrushes, at verification, the respondent attempted to duplicate reported “cap” figures, but did not succeed. The respondent asserted that the figures were derived from a standard cost system, but this system was not explained to the verifiers, who finally rejected the “caps.” See, Natural Bristle Paintbrushes, 64 at 27514. Similarly, while the Department has found reported “caps” reasonable in past segments of this proceeding, the Department also found that there were discrepancies between the reported “cap” amounts and the figures presented at verification of the information submitted during the in the 1997-1998 administrative review. Because the Department could not deduce how the information in the questionnaire was derived, the Department did not consider the information verified. See, Heavy Forged Hand Tools, Finished or Unfinished, With or Without Handles, From the People's Republic of China; Final Results and Partial Recision of Antidumping Duty Admin. Reviews, 64 FR 43659, 43665-43666 (August 11, 1999). For these preliminary review results the Department has accepted the respondents reported “caps” for the purpose of calculating any antidumping margins. The Department intends to conduct verifications of the responding companies, and the use of “caps” in final review results will depend upon our verification findings.

Export Price

In accordance with section 772(a) of the Act, the Department calculated an export price (EP) for sales to the United States for all respondents because the first sale to an unaffiliated party was made before the date of importation and the use of constructed export price (CEP) was not otherwise warranted. When appropriate, we made deductions from the selling price to unaffiliated parties for ocean freight, marine insurance and foreign inland freight. Each of these services, with one exception, was either provided by a NME vendor or paid for using a NME currency. Thus, we based the deduction for these movement charges on surrogate values. See, Normal Value section of this notice. The one exception referred to above concerns ocean freight. TMC used market economy ocean freight vendors for a substantial portion of its U.S. sales and paid for this service using a market economy currency. To value ocean freight for TMC's U.S. sales, we used a weighted average of the firm's market economy ocean freight expenses. Huarong, on the other hand, ships subject merchandise with NME carriers. With respect to LMC, we used the actual reported ocean freight expenses for the market economy shipments. SMC ships through a freight forwarder, and has no knowledge of the actual ocean carriers on which its merchandise is shipped. With respect to SMC, the Department will assume that SMC's carriers are NME carriers in the absence of information to the contrary and base all of its ocean freight on surrogate values. For SMC and Huarong, we valued ocean freight using the official tariff rates published for hand tools by the Federal Maritime Commission. Similarly, for LMC, we valued ocean freight for freight shipped on NME carriers using these official tariff rates. If port-specific rates were not available, we used the regional rates calculated in the Final Determination of Sales at Less Than Fair Value: Brake Drums and Brake Rotors From the People's Republic of China, 62 FR 9160 (February 28, 1997) (“Brake Drums and Brake Rotors”). We converted per container rates by dividing the container rate by 18 metric tons.

We valued marine insurance using the rate of 141.01 Rs/MT which was reported in the public version of the questionnaire response placed on the record in Stainless Steel Wire Rod From India; Final Results of Administrative Review, 63 FR 48184 (September 9, 1998) (India Wire Rod). See, Surrogate Values Used for the Preliminary Results of the Tenth Administrative Reviews of Certain Heavy Forged Hand Tools From the People's Republic of China - February 1, 2000 through January 31, 2001 (Surrogate Value Memorandum). We valued foreign brokerage and handling using the rate of 1519.32 Rs/MT, also reported in the questionnaire response in India Wire Rod. The source used to value inland freight is identified in the Normal Value section of this notice.

To account for inflation or deflation between the time period that the freight, brokerage, and insurance rates were in effect and the POR, we adjusted the rates using the WPI for India from the IMF publication, International Financial Statistics. See, Surrogate Value Memorandum.

Margins

As a result of our reviews, we preliminarily determine that the following margins exist for the period February 1, 2000 through January 31, 2001:

Manufacturer/Exporter | Margin (percent)
Shandong Huarong General Group Corporation
Bars/Wedges 2/1/00-1/31/01 | 3.57
Liaoning Machinery Import & Export Corporation
Bars/Wedges 2/1/00-1/31/01 | 1.61
Tianjin Machinery Import & Export Corporation
Axes/Adzes 2/1/00-1/31/01 | 10.41
Bars/Wedges 2/1/00-1/31/01 | 25.95
Hammers/Sledges 2/1/00-1/31/01 | 9.85
Picks/Mattocks 2/1/00-1/31/01 | 89.16
Shandong Machinery Import & Export Corporation
Hammers/Sledges 2/1/00-1/31/01 | 0.00
PRC-wide rates:
Axes/Adzes 2/1/00-1/31/01 | 18.72
Bars/Wedges 2/1/00-1/31/01 | 47.88
Hammers/Sledges 2/1/00-1/31/01 | 27.71
Picks/Mattocks 2/1/00-1/31/01 | 98.77

The Department will disclose to parties to this proceeding the calculations performed in reaching these preliminary results within ten days of the date of announcement of these preliminary review results. We will issue a memorandum detailing the dates of a hearing, if any, and deadlines for submission of case briefs/written comments and rebuttal briefs or rebuttals to written comments, limited to issues raised in such briefs or comments, after verification. Parties who submit arguments are requested to submit with the argument (1) a statement of the issue, (2) a brief summary of the argument and (3) a table of authorities. Further, the Department requests that parties submitting written comments provide the Department with a diskette containing the public version of those comments.

Section 774 of the Act provides that the Department will hold a hearing to afford interested parties an opportunity to comment on arguments raised in case or rebuttal briefs, provided that an interested party requests such a hearing. Interested parties who wish to request a hearing, or to participate if one is requested, must submit a written request within 30 days of the publication of this notice. Requests should specify the number of participants and provide a list of the issues to be discussed. Oral presentations will be limited to issues raised in the briefs. The Department will issue the final results of these administrative reviews, which will include the results of its analysis of issues raised in interested party comments, within 180 days of publication of these preliminary results.

The final results of these reviews shall be the basis for the assessment of antidumping duties on entries of merchandise covered by these reviews and for future deposits of estimated duties.

Duty Assessment Rates

The Department shall determine, and Customs shall assess, antidumping duties on all appropriate entries. Pursuant to 19 CFR 351.212(b)(1), for each HFHT order, we have calculated importer-specific ad valorem duty assessment rates based on the ratio of the total amount of the dumping margins calculated for the examined sales to the total entered value of those same sales. In order to estimate the entered value, we subtracted international movement expenses from the gross sales value. These importer-specific rates will be assessed uniformly on all entries of each importer that were made during the POR. In accordance with 19 CFR 351.106 (c)(2), we will instruct Customs to liquidate without regard to antidumping duties any entries for which the importer-specific assessment rate is de minimis, i.e., less than 0.5 percent. Upon completion of its Final Results, the Department will issue appraisement instructions directly to Customs.

Cash Deposit Requirements

The following deposit requirements will be effective upon publication of the final results of these administrative reviews for all shipments of HFHTs from the PRC entered, or withdrawn from warehouse, for consumption on or after the publication date of this notice, as provided for by section 751(a)(1) of the Act: (1) the cash deposit rates for the reviewed companies named above which have separate rates (Huarong, LMC, SMC and TMC) will be the rates for those firms established in the final results of these administrative reviews for the classes or kinds of merchandise listed above; (2) for any previously reviewed PRC or non-PRC exporter with a separate rate not covered in these reviews, the cash deposit rates will be the company-specific rates established for the most recent period; (3) for all other PRC exporters, the cash deposit rates will be the PRC&wide rates; and (4) the cash deposit rates for non&PRC exporters of subject merchandise from the PRC will be the rates applicable to the PRC supplier of that exporter. These deposit requirements, when imposed, shall remain in effect until publication of the final results of the next administrative reviews.

Notification to Interested Parties

This notice serves as a preliminary reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.We are issuing and publishing this determination in accordance with sections 751(a)(1) and 777(i)(1) of the Act.

February 28, 2002
Faryar Shirzad,
Assistant Secretary for Import Administration.

[FR Doc. 02-5351 Filed 3-5-02; 8:45 am]

BILLING CODE 3510-DS-S